DEPARTMENT OF HOMELAND SECURITY

Federal Emergency Management Agency

[Docket ID FEMA-2025-0080]

State of Michigan Radiological Emergency Preparedness Plan

AGENCY: Federal Emergency Management Agency, Department of Homeland Security.

ACTION: Notice of State plan approval.

SUMMARY: The Federal Emergency Management Agency (FEMA) is announcing the approval of radiological emergency response plans submitted by the State of Michigan. The approved plans support Holtec International's Palisades Nuclear Generating Station located in Van Buren County, Michigan.

DATES: The radiological emergency response plans were approved on September 25, 2025.

FOR FURTHER INFORMATION CONTACT: Michael Chesney, Acting Regional Administrator, FEMA Region 5, 536 S. Clark Street, 6th Floor, Chicago, IL 60605. Phone: 312-408-5501; email: FEMA-publiccomment-Palisades@fema.dhs.gov.

SUPPLEMENTARY INFORMATION: In support of the Federal requirement for radiological emergency response plans, FEMA's regulations at 44 CFR part 350 describe the agency's procedures for review and approval of State and local governments' radiological emergency response plans. The FEMA Region 5 office received an application from the State of Michigan on May 30, 2025. The application included a state plan and plans for local governments which are wholly or partially within the plume exposure pathway emergency planning zones of the nuclear plant. For the Palisades Nuclear Generating Station, plans are included for Allegan, Berrien, and Van Buren counties.

The requirements of 44 CFR part 350 have been met for the State's application. A joint exercise was conducted on July 29, 2025. A public meeting was held on August 5, 2025. Following evaluation of the State plans by the Regional Administrator for FEMA Region 5, the Acting Deputy Assistant Administrator for the National Preparedness Directorate has determined that the State plans and preparedness are adequate to protect the health and safety of the public living in the vicinity of the nuclear power facility by providing reasonable assurance that appropriate protective measures can be taken offsite in the event of a radiological emergency; and are capable of being implemented. Accordingly, the Acting Deputy Assistant Administrator for the National Preparedness Directorate has approved the State plans.

Authority: The Robert T. Stafford Disaster Relief and Emergency Assistance Act, as amended, 42 U.S.C. 5121 et seq.; 6 U.S.C. 101 et seq.; and 44 CFR part 350.

Joel A. Doolin
Acting Assistant Administrator, National Preparedness Directorate, Federal Emergency Management Agency.

[FR Doc. 2026-02667 Filed 2-10-26; 8:45 am]

BILLING CODE 9110-LH-P